DEPARTMENT OF THE INTERIOR

Fish and Wildlife Service

[FWS-R1-ES-2019-N084; FXES11140100000-190-FF01E00000]

Record of Decision for the Final Environmental Impact Statement for the Skookumchuck Wind Energy Project Habitat Conservation Plan, Lewis and Thurston Counties, Washington

AGENCY: Fish and Wildlife Service, Interior.

ACTION: Notice of availability; record of decision.

SUMMARY: We, the U.S. Fish and Wildlife Service (Service), announce the availability of a record of decision (ROD) for the proposed issuance of an Endangered Species Act (ESA) permit for the Skookumchuck Wind Energy Project (project) and final habitat conservation plan (HCP). The ROD documents the Service's decision to issue an incidental take permit (ITP) to Skookumchuck Wind Energy Project, LLC (applicant). As summarized in the ROD, the Service has selected Alternative 1—the Proposed Action, which includes implementation of the HCP and issuance of the ITP authorizing incidental take of one threatened species listed under the ESA and two species protected under the Bald and Golden Eagle Protection Act (BGEPA) that may occur as a result of operation of the project over a 30-year period.

ADDRESSES: You may obtain copies of the ROD and other documents associated with the decision by the following methods.

• Internet: Documents may be viewed and downloaded on the internet at http://www.fws.gov/wafwo/.

• U.S. Mail: You may obtain a CD-ROM with electronic copies of these documents if you make a request within 30 days after the date of publication of this notice by writing to Curtis Tanner, U.S. Fish and Wildlife Service, Washington Fish and Wildlife Office, 510 Desmond Dr. SE, Suite 102, Lacey, WA 98503.

• Telephone: Call 360-753-4326 during regular business hours.

FOR FURTHER INFORMATION CONTACT: Curtis Tanner, by mail at U.S. Fish and Wildlife Service, Washington Fish and Wildlife Office (see ADDRESSES); by phone at 360-753-4326; or via email at Curtis_Tanner@fws.gov. Hearing or speech impaired individuals may call the Federal Relay Service at 800-877-8339 for TTY assistance.

SUPPLEMENTARY INFORMATION: We, the U.S. Fish and Wildlife Service (Service), announce the availability of a record of decision (ROD) for the proposed issuance of an Endangered Species Act (ESA) section 10(a)(1)(B) incidental take permit (ITP) to Skookumchuck Wind Energy Project, LLC (applicant) for the Skookumchuck Wind Energy Project (project) and final habitat conservation plan (HCP). The ROD documents the Service's decision to issue an ITP to the applicant. As summarized in the ROD, the Service has selected Alternative 1- the Proposed Action (described below), which includes implementation of the HCP and issuance of the ITP authorizing incidental take of the following covered species that may occur as a result of project operations during a 30-year period—the marbled murrelet (Brachyramphus marmoratus), which is a threatened species listed under the ESA, and the bald eagle (Haliaeetus leucocephalus) and the golden eagle (Aquila chrysaetos), which are not listed under the ESA but are protected under the Bald and Golden Eagle Protection Act (BGEPA).

We are advising the public of the availability of the ROD, developed in compliance with the agency decision-making requirements of the National Environmental Policy Act of 1969, as amended (NEPA), as well as the final HCP as submitted by the applicant. All alternatives have been described in detail, evaluated, and analyzed in our draft environmental impact statement (DEIS) and final environmental impact statement (FEIS). Our notice of availability of the FEIS and HCP was published in the Federal Register on May 31, 2019 (84 FR 25299), with a minor correction published in the Federal Register on June 6, 2019 (84 FR 26423).

Background

The project site encompasses approximately 9,700 acres of forestlands in Thurston and Lewis Counties, Washington. The applicant intends to initiate turbine operations in 2019, or as soon as possible thereafter. A detailed description of the project is presented in chapter 2 of the HCP. The majority of the project, including all 38 wind turbines, is located in Lewis County, Washington. Some supporting infrastructure is located in Thurston County, Washington. The wind energy generation facility is located on a prominent ridgeline on the Weyerhaeuser Company's Vail Tree Farm, located approximately 18 miles east of Centralia, Washington. The project is expected to produce an output of approximately 137 megawatts (MW) of electricity from 38 wind turbines, each of which is 492 feet tall (from ground to vertical blade tip), with rotor diameters of 446 feet. The turbine operating prescriptions presented in chapter 2 of the HCP include curtailment regimes and site management prescriptions.

Pre-project monitoring identified the presence of each covered species in the project area. The applicant determined that adverse effects to each of the covered species are unavoidable, and developed the HCP to cover take of those species caused by project operations over a period of 30 years. The HCP details measures the applicant will implement to minimize, mitigate, and monitor the unavoidable incidental take of the covered species.

Avoidance and minimization measures in the HCP to benefit the marbled murrelet include seasonal curtailment of turbine blades (turbine blades are fully stopped and feathered into the wind) and site management prescriptions to maintain transmission and distribution line flight diverters, shield artificial light sources, and minimize the artificial increase of potential nest predators in the project area. Mitigation measures in the HCP to benefit the marbled murrelet include acquisition and permanent management of conservation lands to promote the preservation and enhancement of suitable nesting habitat for the species, and funding the removal of abandoned or derelict fishing nets in the Salish Sea in which murrelets can become entangled and drown.

Avoidance and minimization measures in the HCP to benefit the bald eagle and the golden eagle include site management prescriptions to remove carrion to reduce scavenging by eagles on the project site, minimize cover for prey animals such as rabbits to reduce prey-based attractions of eagles to the project site, and testing of eagle detection-based turbine curtailment technologies intended to reduce eagle collisions with operating turbine blades. If effective, the turbine curtailment triggered by automated eagle-detection will be implemented routinely. Mitigation measures in the HCP intended to benefit bald eagles and golden eagles consist of retrofitting power poles to reduce the occurrence of eagle collisions with power lines and electrocution. Eagles will also receive marginal benefit from the conservation lands in the form of nesting, roosting, and foraging habitat.

Purpose and Need

The Service's purpose and need is to respond to the ITP application submitted by the applicant, and to approve, approve with conditions, or deny the ITP application. This assessment is complete, and was be made pursuant to the requirements of ESA section 10(a)(1)(B) and the BGEPA, and their respective implementing regulations. Any ITP issued by the Service must meet all applicable requirements of the ESA, BGEPA, and their implementing regulations.

Alternatives

Our FEIS analyzed the environmental impacts of no action, and the following three action alternatives related to the issuance of the ITP and implementation of the HCP: (A) The Proposed Action (Alternative 1); (B) a modified site design for the Proposed Action (Alternative 2); and (C) an enhanced curtailment regime for the Proposed Action (Alternative 3).

No-Action Alternative: Under the No-Action Alternative (Options A and B), no permit would be issued, and the applicant's HCP would not be implemented. This alternative consists of two options: Option A—No Project Operations and Option B—No Project. Option A assumes the applicant would construct the project before the Service makes a final permit decision, but would not operate the project without an ITP. Option A is included in the FEIS because the applicant informed the Service that it may initiate and complete construction of the project before the Service makes a decision on the ITP application. Option B assumes that the applicant would not construct the project without an ITP. Under this option, nothing would change from current conditions and no impacts on the human environment would result from the project.

Alternative 1 (Proposed Action): Issuance of the requested permit and implementation of the conservation program described in the applicant's HCP. Alternative 1 is the Service's preferred alternative.

Alternative 2: Under the Modified Project Site Design Alternative, the project would not operate the five wind turbine generators (WTGs) closest to documented marbled murrelet nest locations for the duration of the ITP. The Service would issue an ITP authorizing the level of incidental take expected to result from operation and maintenance of the remaining 33 WTGs and site management activities.

Alternative 3: Under the Enhanced Curtailment Regime of the Proposed Action Alternative, all 38 WTGs would operate under an expanded set of curtailment measures intended to minimize the potential for take of the covered species. The Service would issue an ITP authorizing the level of incidental take expected to result from covered activities in accordance with the additional curtailment measures.

The environmental consequences of each alternative were analyzed in the FEIS. The types of effects on covered species were similar across action alternatives, with take resulting from project operations being mitigated through land acquisition, derelict net removal, and power pole retrofits. Increasing the use of avoidance and minimization measures through different turbine curtailment regimes can reduce the amount of take of the covered species and the amount of renewable electricity produced; a commensurate reduction in the amount of derelict net removal and power pole retrofits are expected with alternatives that increase turbine curtailment.

Public comments received in response to the DEIS were considered, and the FEIS reflects clarifications of the existing analysis to address public comments.

The FEIS does not identify an environmentally preferred alternative. Pursuant to NEPA implementing regulations found at 40 CFR 15.2(b), the Service identified the No Action Alternative—Option B (no approval of the HCP/no issuance of the ITP/no project construction) as the environmentally preferred alternative in the ROD.

Decision and Rationale for Decision

Based on our review of the alternatives and their environmental consequences as described in our FEIS, we have selected the Proposed Action option (Alternative 1). The Proposed Action includes the applicant's implementation of the final HCP and the Service's issuance of an ITP authorizing incidental take of the covered species that may occur as a result of project operations.

In order to issue an ITP for covered species under the ESA, we must determine that the HCP meets the issuance criteria set forth in 16 U.S.C. 1539(a)(2)(B). In addition, in order to issue an ITP covering bald eagles and golden eagles, we must determine that the HCP meets the issuance criteria set forth in 50 CFR 22.26(f). We have made the determination that the HCP meets both sets of criteria, as described further in the ROD.

Authority

We provide this notice in accordance with the requirements of section 10(c) of the ESA (16 U.S.C. 1539(c)) and its implementing regulations (50 CFR 17.22 and 17.32), and NEPA (42 U.S.C. 4321 et seq.) and its implementing regulations (40 CFR 1506.6; 43 CFR part 46).

Robyn Thorson,
Regional Director, U.S. Fish and Wildlife Service.

[FR Doc. 2020-06977 Filed 4-2-20; 8:45 am]

BILLING CODE 4333-15-P